DEPARTMENT OF AGRICULTURE

Food Safety and Inspection Service

9 CFR Part 320

[Docket No. FSIS-2009-0015]

RIN 0583-AA69

Recordkeeping Regulations; Correcting Amendment

AGENCY: Food Safety and Inspection Service, USDA.

ACTION: Correcting amendment.

SUMMARY: The Food Safety and Inspection Service (FSIS) is amending the Federal meat inspection regulations to correct an inadvertent error in the recordkeeping provisions.

DATES: This amendment is effective July 6, 2009.

FOR FURTHER INFORMATION CONTACT: Rachel Edelstein, Director, Policy Issuances Division, Office of Policy and Program Development, FSIS, U.S. Department of Agriculture, 1400 Independence Avenue, SW., Washington, DC 20250-3700, (202) 720-0399.

SUPPLEMENTARY INFORMATION: On November 30, 1990, FSIS published a final rule on net weight labeling of meat and poultry products (55 FR 49826). The rule redesignated § 317.20 as § 317.24 (55 FR 49833). However, in § 320.1(b)(5), the rule did not change the reference to § 317.24. This notice corrects the error and amends § 320.1(b)(5) to refer to § 317.24.

Additional Public Notification

Public awareness of all segments of rulemaking and policy development is important. Consequently, in an effort to ensure that minorities, women, and persons with disabilities are aware of this notice, FSIS will announce it online through the FSIS Web page located at http://www.fsis.usda.gov/Regulations_&_Policies/2009_Interim_&_Final_Rules_Index/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade and farm groups, consumer interest groups, allied health professionals, and other individuals who have asked to be included. The Update is also available on the FSIS Web page. Through the Listserv and Web page, FSIS is able to provide information to a much broader and more diverse audience. In addition, FSIS offers an e-mail subscription service which provides automatic and customized access to selected food safety news and information. This service is available at http://www.fsis.usda.gov/news_and_events/email_subscription/.

Options range from recalls to export information to regulations, directives and notices. Customers can add or delete subscriptions themselves, and have the option to password protect their accounts.

List of Subjects in 9 CFR Part 320

Meat inspection, Reporting and recordkeeping requirements.

For the reasons set forth in the preamble, 9 CFR part 320 is amended as follows:

PART 320—RECORDS, REGISTRATION, AND REPORTS

1. The authority citation continues to read as follows:

Authority: 21 U.S.C. 601-695; 7 CFR 2.7, 2.18, 2.53.

2. In § 320.1, revise paragraph (b)(5) to read as follows:

§ 320.1 Records required to be kept.

* * * * *

(b) * * *

(5) Guaranties provided by suppliers of packaging materials under § 317.24.

* * * * *

Done at Washington, DC, on June 29, 2009.
Alfred V. Almanza,
Administrator.

[FR Doc. E9-15815 Filed 7-2-09; 8:45 am]

BILLING CODE 3410-DM-P